INTERNATIONAL TRADE COMMISSION

[Investigation Nos. 701-TA-660-661 and 731-TA-1543-1545 (Final)]

Cancellation of Hearing for Final Phase Countervailing Duty and Anti-Dumping Duty Investigations; Utility Scale Wind Towers From India, Malaysia, and Spain

AGENCY: United States International Trade Commission.

ACTION: Notice.

DATES: June 9, 2021.

FOR FURTHER INFORMATION CONTACT: Julie Duffy ((202) 708-2579), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: Effective March 19, 2021, the Commission published its schedule for the final phase of these investigations (86 FR 20197, April 16, 2021). Counsel for the Wind Tower Trade Coalition filed its request to appear at the hearing on June 4, 2021. No other parties submitted a request to appear at the hearing. On June 7, 2021, counsel withdrew their request to appear at the hearing. Counsel indicated a willingness to submit written responses to any Commission questions in lieu of an actual hearing. Consequently, since no party to the investigation requested a hearing, the public hearing in connection with these investigations, scheduled to begin at 9:30 a.m. on Thursday, June 10, 2021, is canceled. Parties to these investigations should respond to any written questions posed by the Commission in their posthearing briefs, which are due to be filed on June 17, 2021.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: June 10, 2021.
Lisa Barton,
Secretary to the Commission.

[FR Doc. 2021-12562 Filed 6-14-21; 8:45 am]

BILLING CODE 7020-02-P